DEPARTMENT OF HEALTH AND HUMAN SERVICES

Centers for Disease Control and Prevention

Advisory Committee on Immunization Practices (ACIP)

Amendment: A notice of this meeting was published in the Federal Register on May 24, 2016, Volume 81, Number 100, Pages 32754-32755. The original notice is amended to include Matters for Discussion as follows:

Matters for Discussion: The agenda will include discussions on meningococcal vaccines; human papillomavirus vaccines; influenza; cholera vaccine; hepatitis vaccines; safety of maternal Tdap vaccination; Respiratory Syncytial Virus (RSV) and vaccine supply. A recommendation vote is scheduled for meningococcal vaccines, influenza vaccine, and cholera vaccine. A VFC vote is scheduled for meningococcal vaccines, and influenza.

Agenda items are subject to change as priorities dictate.

Contact Person for More Information: Stephanie Thomas, National Center for Immunization and Respiratory Diseases, CDC, 1600 Clifton Road NE., MS-A27, Atlanta, Georgia 30329, telephone 404/639-8836; Email ACIP@CDC.GOV.

The Director, Management Analysis and Services Office, has been delegated the authority to sign Federal Register notices pertaining to announcements of meetings and other committee management activities for both the Centers for Disease Control and Prevention and the Agency for Toxic Substances and Disease Registry.

Elaine L. Baker,
Director, Management Analysis and Services Office Centers for Disease Control and Prevention.

[FR Doc. 2016-14787 Filed 6-21-16; 8:45 am]

BILLING CODE 4160-18-P